DEPARTMENT OF HEALTH AND HUMAN SERVICES

Administration on Aging

Agency Information Collection Activities; Proposed Collection; Comment Request; Alzheimer's Disease Supportive Services Program Standardized Data Collection

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the Alzheimer's Disease Supportive Services Program.

DATES: Submit written or electronic comments on the collection of information by May 14, 2010.

ADDRESSES: Submit electronic comments on the collection of information to shannon.skowronski@aoa.hhs.gov. Submit written comments on the collection of information to Shannon Skowronski, U.S. Administration on Aging, Washington, DC 20201.

FOR FURTHER INFORMATION CONTACT: Shannon Skowronski 202-357-0149 or e-mail: shannon.skowronski@aoa.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Alzheimer's Disease Supportive Services Program (ADSSP) is authorized through Sections 398, 399 and 399A of the Public Health Service (PHS) Act, as amended by Public Law 101-557 Home Health Care and Alzheimer's Disease Amendments of 1990. The ADSSP helps states extend supportive services to persons with Alzheimer's disease and their caregivers, including underserved populations.

In compliance with the PHS Act, AoA developed an ADSSP Data Collection Reporting Tool (ADSSP-DCRT) in 2007. The ADSSP-DCRT collects information about the delivery of direct services by ADSSP state grantees, as well as basic demographic information about service recipients. This revised version includes some revisions to the approved 2007 version. The revised version would be in effect for the FY2011 reporting year and thereafter, while the current reporting tool, OMB Approval Number 0985-0022, would be extended to the end of the FY2010 reporting cycle.

The proposed FY2011 ADSSP-DCRT can be found on AoA's Web site at: http://www.aoa.gov/AoARoot/AoA_Programs/HCLTC/Alz_Grants/docs/ADSSP.pdf. AoA estimates the burden of this collection of information to be as follows: 1,410 hours.

Dated: March 9, 2010.
Kathy Greenlee,
Assistant Secretary for Aging.

[FR Doc. 2010-5584 Filed 3-12-10; 8:45 am]

BILLING CODE 4154-01-P